DEPARTMENT OF THE INTERIOR

National Park Service

[NPS-WASO-NRNHL-15227; PPWOCRADI0, PCU00RP14.R50000]

Landmarks Committee of the National Park System Advisory Board Meeting

AGENCY: National Park Service, Interior.

ACTION: Notice of meeting.

SUMMARY: Notice is hereby given in furtherance of the Federal Advisory Committee Act, (5 U.S.C. Appendix 1-16), that a meeting of the Landmarks Committee of the National Park System Advisory Board will be held beginning at 10:00 a.m. on May 28, 2014, at the Charles Sumner School Museum and Archives. The meeting will continue beginning at 9:30 a.m. on May 29, 2014, at the National Park Service Washington Office. Please note the two different meeting locations.

DATES: The meeting will be held on May 28, 2014, from 10:00 a.m. to 4:30 p.m.; and May 29, 2014, from 9:30 a.m. to 12:00 p.m., (Eastern).

Location: The Charles Sumner School Museum and Archives, 3rd Floor, The Richard L. Hurlbut Memorial Hall, 1201 17th Street NW., Washington, DC 20036; and the National Park Service Washington Office, 2nd Floor, 1201 Eye Street NW., Washington, DC 20005.

Agenda: The National Park System Advisory Board and its Landmarks Committee may consider the following nominations:

California

CALIFORNIA POWDER WORKS BRIDGE, Santa Cruz County, CA

Florida

MARJORY STONEMAN DOUGLAS HOUSE, Miami, FL

Indiana

SAMARA (JOHN E. AND CATHERINE E. CHRISTIAN HOUSE), West Lafayette, IN

Massachusetts

BROOKLINE RESERVOIR OF THE COCHITUATE AQUEDUCT, Brookline, MA

Michigan

MCGREGOR MEMORIAL CONFERENCE CENTER, Detroit, MI

Montana

LAKE HOTEL, Yellowstone National Park, Teton County, MT

Ohio

ZOAR HISTORIC DISTRICT, Zoar, OH

Proposed Amendments to Existing Designations:

Arkansas

FORT SMITH, Fort Smith, AR (updated documentation and boundary change)

Kansas

NICODEMUS HISTORIC DISTRICT, Nicodemus, Graham County, KS

(updated documentation and boundary change)

Montana and North Dakota

FORT UNION, Williams County, ND, and Roosevelt County, MT

(updated documentation and boundary change)

Pennsylvania

CLIVEDEN, Philadelphia, PA

(updated documentation)

Utah

MOUNTAIN MEADOWS MASSACRE SITE, Washington County, UT

(updated documentation and boundary change)

Proposed Withdrawal of Designations:

California

WAPAMA (Steam Schooner), Richmond, CA

FOR FURTHER INFORMATION CONTACT: Patricia Henry, Historian, National Historic Landmarks Program, National Park Service, 1849 C Street NW., Washington, DC 20240; telephone (202) 354-2216 or email: Patty_Henry@nps.gov.

SUPPLEMENTARY INFORMATION: The purpose of the meeting of the Landmarks Committee of the National Park System Advisory Board is to evaluate nominations of historic properties in order to advise the National Park System Advisory Board of the qualifications of each property being proposed for National Historic Landmark designation, and to make recommendations regarding the possible designation of those properties as National Historic Landmarks to the National Park System Advisory Board at a subsequent meeting at a place and time to be determined. The Committee also makes recommendations to the National Park System Advisory Board regarding amendments to existing designations and proposals for withdrawal of designation. The members of the Landmarks Committee are:

Dr. Stephen Pitti, Chair

Dr. James M. Allan

Dr. Cary Carson

Mr. Luis Hoyos, AIA

Dr. Barbara J. Mills

Dr. William J. Murtagh

Dr. William D. Seale

Dr. Michael E. Stevens

The meeting will be open to the public. Pursuant to 36 CFR part 65, any member of the public may file, for consideration by the Landmarks Committee of the National Park System Advisory Board, written comments concerning the National Historic Landmarks nominations, amendments to existing designations, or proposals for withdrawal of designation.

Comments should be submitted to J. Paul Loether, Chief, National Register of Historic Places and National Historic Landmarks Program, National Park Service, 1849 C Street NW., Washington, DC 20240, email: Paul_Loether@nps.gov.

Before including your address, telephone number, email address, or other personal identifying information in your comment, you should be aware that your entire comment—including your personal identifying information—may be made publicly available at any time. While you may ask us in your comment to withhold your personal identifying information from public review, we cannot guarantee that we will be able to do so.

Dated: April 1, 2014.
Alma Ripps,
Chief, Office of Policy.

[FR Doc. 2014-07661 Filed 4-4-14; 8:45 am]

BILLING CODE 4312-51-P